DEPARTMENT OF JUSTICE

Antitrust Division

Notice Pursuant to the National Cooperative Research and Production Act of 1993—Expeditionary Missions Consortium—Crane

Notice is hereby given that, on October 14, 2025, pursuant to section 6(a) of the National Cooperative Research and Production Act of 1993, 15 U.S.C. 4301 et seq. (“the Act”), Expeditionary Missions Consortium—Crane (“EMC²”) has filed written notifications simultaneously with the Attorney General and the Federal Trade Commission disclosing changes in its membership. The notifications were filed for the purpose of extending the Act's provisions limiting the recovery of antitrust plaintiffs to actual damages under specified circumstances. Specifically, Forward Edge AI INC, San Antonio, TX; Govsignals Inc., New York, NY; Great Lakes Sound & Vibration INC, Houghton, MI; Matsys Incorporated, Sterling, VA; Red Research Group, LLC, Southern Pines, NC; Redhelm Labs LLC, College Park, MD; Seaward Services, Inc., New Albany, IN; Sentinel Infrared Imaging, Inc., Vero Beach, FL; Supernova Industries Corp., Austin, TX; Cana LLC, Haymarket, VA; Chance Technologies LLC, Lafayette, LA; Cx2, Inc., El Segundo, CA; and Element 119 LLC, Plainville, CT, have been added as parties to this venture.

No other changes have been made in either the membership or planned activity of the group research project. Membership in this group research project remains open, and EMC² intends to file additional written notifications disclosing all changes in membership.

On January 11, 2024, EMC² filed its original notification pursuant to section 6(a) of the Act. The Department of Justice published a notice in the Federal Register pursuant to section 6(b) of the Act on March 13, 2024 (89 FR 18439).

The last notification was filed with the Department on July 28, 2025. A notice was published in the Federal Register pursuant to section 6(b) of the Act on August 15, 2025 (90 FR 39424).

Suzanne Morris,
Deputy Director Civil Enforcement Operations, Antitrust Division.

[FR Doc. 2026-03531 Filed 2-20-26; 8:45 am]

BILLING CODE P